SOCIAL SECURITY ADMINISTRATION

[Docket No. SSA-2022-0041]

Notice of Senior Executive Service Performance Review Board Membership

AGENCY: Social Security Administration.

ACTION: Notice of Senior Executive Service Performance Review Board Membership.

Title 5, U.S. Code, 4314(c)(4), requires that the appointment of Performance Review Board members be published in the Federal Register before service on said Board begins.

The following persons will serve on the Performance Review Board which oversees the evaluation of performance appraisals of Senior Executive Service members of the Social Security Administration:

Florence Felix-Lawson, Chair

Ann Amrhein

Seth Binstock

Jeffrey Buckner

Kathryn Caldwell

Djimy Chapron *

Vikash Chhagan

Doris Diaz *

Joe Lopez

Kristen Medley-Proctor *

Jim Parikh *

Dawn Wiggins *

* New Member

Darlynda K. Bogle,
Deputy Commissioner for Human Resources, Social Security Administration.

[FR Doc. 2022-16728 Filed 8-3-22; 8:45 am]

BILLING CODE 4191-02-P